DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Massachusetts Bay Transportation Authority

(Waiver Petition Docket Number FRA-2004-18063)

Massachusetts Bay Transportation Authority (MBTA) seeks a waiver of compliance with the Passenger Equipment Safety Standards, 49 CFR Part 238. Section 231(b), as it pertains to “The brake system design of passenger equipment ordered after September 8, 2000, or placed in service for the first time on or after September 9, 2002, shall not require an inspector to place himself on, under, or between components of the equipment to observe brake actuation and release”. MBTA is in the process of receiving twenty-eight new bi-level passenger coaches equipped with tread brakes and inboard disk brakes. Placement of the inboard disk brake equipment does not allow for an inspector to observe the brake actuation or release without placing themself on, under, or between components of the equipment.

MBTA proposes that it be allowed to perform all brake inspections to the extent possible on a daily basis. The twenty-eight cars would also be equipped with brake indicators, two per truck, that are fed down stream of the truck air brake cut out valves. MBTA proposes that these brake indicators' functionality would be tested at the required one-hundred-eighty day periodic inspection. In addition the twenty-eight new cars would receive an under car inspection to be performed by a “Qualified Maintenance Person” over a pit not less often than every five days. MBTA indicates that the pit inspection will allow for a full and complete inspection of all brake system components.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2004-18063) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on July 7, 2004.
Grady C. Cothen, Jr.,
Acting Associate Administrator for Safety.

[FR Doc. 04-16249 Filed 7-16-04; 8:45 am]

BILLING CODE 4910-06-P